HARRY S. TRUMAN SCHOLARSHIP FOUNDATION

Harry S. Truman Scholarship 2005 Competition

AGENCY: Harry S. Truman Scholarship Foundation.

ACTION: Notice of closing for nominations from eligible institutions of higher education.

SUMMARY: Notice is hereby given that, pursuant to the authority contained in the Harry S. Truman Memorial Scholarship Act, Public Law 93-642 (20 U.S.C. 2001), nominations are being accepted from eligible institutions of higher education for 2005 Truman Scholarships. Procedures are prescribed at 45 CFR part 1801.

In order to be assured consideration, the Truman Scholarship Foundation, 712 Jackson Place, NW., Washington, DC 20006, must receive all documentation in support of nominations no later than February 7, 2005, from participating institutions.

Dated: January 11, 2005.
Louis H. Blair,
Executive Secretary.

[FR Doc. 05-1048 Filed 1-19-05; 8:45 am]

BILLING CODE 6820-AD-P